DEPARTMENT OF TRANSPORTATION

Federal Transit Administration

[Docket No: FTA-2007-29075]

National Transit Database: Rural Reporting Manual

AGENCY: Federal Transit Administration (FTA), DOT.

ACTION: Notice of Availability of National Transit Database Rural Reporting Manual.

SUMMARY: This notice provides interested parties with the opportunity to comment on the Federal Transit Administration's (FTA) National Transit Database (NTD) Rural Reporting Manual (Rural Manual). Pursuant to 49 U.S.C. 5335, FTA requires recipients of grants under 49 U.S.C. 5311 (Other Than Urbanized Area Formula Grants) to provide an annual report to the Secretary of Transportation via the NTD reporting system according to a uniform system of accounts (USOA). 49 U.S.C. 5311 provides additional specifications for annual reporting from recipients of Section 5311 grants. The Rural Manual provides complete details as to FTA's implementation of these annual requirements through reporting to the Rural NTD Module. In accordance with 49 U.S.C. 5334, and in an ongoing effort to be responsive to the needs of NTD reporters, the Rural Manual is available in the DOT docket for public comment.

DATES: Comments must be received on or before October 9, 2007. FTA will consider late filed comments to the extent practicable.

ADDRESSES: You may submit comments at the following Web site: http://dms.dot.gov. Follow the instructions there for submitting comments to the DOT electronic docket.

Fax: 202-493-2251.

Mail: Docket Management System; U.S. Department of Transportation, 1200 New Jersey Avenue, SE., West Building Ground Floor, Room W12-140, Washington, DC 20590.

Hand Delivery: To the Docket Management System; U.S. Department of Transportation, 1200 New Jersey Avenue, SE., West Building Ground Floor, Room W12-140, Washington, DC 20590 between 9 a.m. and 5 p.m., Monday through Friday, except Federal Holidays.

Instructions: When submitting comments electronically to the Department's Docket Management System (DMS) Web site located at http://dms.dot.gov, you must use docket number FTA-2007-29075. This will ensure that your comment is placed in the correct docket. If you submit comments by mail, you should submit two copies and include the above docket number. Note that all comments received will be posted, without change, to http://dms.dot.gov including any personal identifying information. This means that if your comment includes any personal identifying information, such information will be made available to users of DMS. You may review the Department's complete Privacy Act Statement in the Federal Register published on April 11, 2000 (65 FR 19477), or you may visit http:// dms.dot.gov.

FOR FURTHER INFORMATION CONTACT: For program issues, John D. Giorgis, Office of Budget and Policy, (202) 366-5430 (telephone); (202) 366-7989 (fax); or john.giorgis@dot.gov (e-mail). For legal issues, Richard Wong, Office of the Chief Counsel, (202) 366-0675 (telephone); (202) 366-3809 (fax); or richard.wong@dot.gov (e-mail).

SUPPLEMENTARY INFORMATION: The National Transit Database (NTD) is the Federal Transit Administration's (FTA's) primary database for statistics on the transit industry. Recipients of grants under 49 U.S.C. 5307 (Urbanized Area Formula Grants) or under 49 U.S.C. 5311 (Other Than Urbanized Area Formula Grants) are required by statute to submit data to the NTD. These data are used to “help meet the needs of * * * the public for information on which to base public transportation service planning * * *” (49 U.S.C 5335). The statute further specifies that recipients of grants under 49 U.S.C. 5311 are required to submit an annual report “containing information on capital investment, operations, and service provided with funds received. * * * . including,

(A) total annual revenue;

(B) sources of revenue;

(C) total annual operating costs;

(D) total annual capital costs;

(E) fleet size and type, and related facilities;

(F) revenue vehicle miles; and

(G) ridership.” (49 U.S.C. 5311)

The National Transit Database Rural Reporting Manual (Rural Manual) provides complete details as to FTA's implementation of these annual requirements for recipients of grants under 49 U.S.C. 5311 through reporting to the Rural NTD Module.

Currently, over 650 transit agencies in urbanized areas already report to the NTD through an Internet-based reporting system. Pursuant to 49 U.S.C. 5335, FTA is expanding NTD reporting to include recipients of grants under 49 U.S.C. 5311 (Other Than Urbanized Area Formula Grants.) Recipients of these grants include the 50 States, Puerto Rico, American Samoa, Guam, and the Northern Marianas. (By statute, the Virgin Islands are considered to be an urbanized area for purposes of FTA grant-making.) Additionally, a number of Indian Tribes are also direct recipients of grants under 49 U.S.C. 5311. In addition to fulfilling a statutory requirement, this data will be used in the annual National Transit Summaries and Trends report, the biennial Conditions and Performance Report to Congress, and in meeting FTA's obligations under the Government Performance and Results Act.

This notice provides interested parties with the opportunity to comment on FTA's Rural Manual. The Rural Manual is available in the DOT Docket FTA-2007-29075 and may also be reviewed on the NTD Web site, http://www.ntdprogram.gov.

Issued in Washington, DC, this 29th day of August 2007.
James S. Simpson,
Administrator.

[FR Doc. E7-17549 Filed 9-5-07; 8:45 am]

BILLING CODE 4910-57-P